DEPARTMENT OF HOUSING AND URBAN DEVELOPMENT

[Docket No. FR-4768-C-03]

Notice of Funding Availability for Revitalization of Severely Distressed Public Housing, HOPE VI Revitalization Grants, Fiscal Year 2002; Notice of Technical Corrections

AGENCY: Office of Public and Indian Housing, HUD.

ACTION: Notice of Funding Availability for Revitalization of Severely Distressed Public Housing, HOPE VI Revitalization Grants, Notice of Technical Corrections.

SUMMARY: This notice makes a number of technical corrections to HUD's Fiscal Year (FY) 2002 Notice of Funding Availability for Revitalization of Severely Distressed Public Housing, HOPE VI Revitalization Grants.

DATES: Application Due Date. Revitalization grant applications are due to HUD Headquarters on or before 5:15 p.m., Eastern Time, on December 6, 2002.

FOR FURTHER INFORMATION CONTACT: Milan Ozdinec, Deputy Assistant Secretary for Public Housing Investments, Department of Housing and Urban Development, 451 Seventh Street, SW., Room 4130, Washington, DC 20410; telephone (202) 401-8812; fax (202) 401-2370 (these are not toll free numbers). Persons with hearing-or speech-impairments may call via TTY by calling the Federal Information Relay Service at (800) 877-8339.

SUPPLEMENTARY INFORMATION: On July 31, 2002 (67 FR 49766), HUD published its Fiscal Year (FY) 2002 Notice of Funding Availability for Revitalization of Severely Distressed Public Housing, HOPE VI Revitalization Grants (HOPE VI NOFA), which announced the availability of approximately $492.5 million in FY 2002 funds for the HOPE VI Revitalization Program. The July 31, 2002 HOPE VI NOFA provided an application due date of November 29, 2002. Because November 29, 2002, falls on the Friday after Thanksgiving, HUD extended the application due date under the July 31, 2002 HOPE VI NOFA for one week to Friday, December 6, 2002, in a notice published on September 27, 2002 (67 FR 61150). This notice makes a number of technical corrections to the July 31, 2002 HOPE VI NOFA.

In Section VI(A)(1), the reference to “Section IV(A)(2)” is corrected to “Section VI(A)(2)” instead, changing the “IV” to “VI.”

Section VIII (B)(4) is corrected to make explicit that the average market rental costs calculated from apartment listings is based upon the rent for 3-bedroom apartments.

In the last sentence of Section IX(D)(10), “allocated” is changed to “reserved,” and in the first sentence of Section IX(D)(10)(a), “allocation” is changed to “reservation.” Both changes are made to correctly express the tax credit procedure involved.

A sentence is added to Section IX(D)(10)(b)(ii) to provide that a letter from the investor may be used to document the dollar amount expected from the sale of equity.

In Section IX(G)(1)(c), the reference to “1:20” should be to “1:2.0” instead, adding a decimal point that had been omitted inadvertently from the ratio.

In Section IX(G)(3)(a), the ratio is corrected from “1:1.0” to “.1:1.0” adding a decimal point before the first digit; in Section IX(G)(3)(b), the ratio is corrected from “1:.1” to “.1:1.0” reversing the order of the digits; and in Section IX(G)(4)(b), the ratio is corrected from “1:.1” to “1:1.0” removing the decimal point before the second digit.

In Section XII(E)(3), the reference to “Section (1)” is changed to “Section (2).”

Accordingly, FR Doc. 02-19276, the Fiscal Year (FY) 2002 Notice of Funding Availability for Revitalization of Severely Distressed Public Housing, HOPE VI Revitalization Grants, published in the Federal Register on July 31, 2002 (67 FR 49766) is corrected as follows:

1. On page 49769, in column 3, revise Section VI(A)(1) to read as follows:

(1) The total amount you may request in your Revitalization application is limited to $20 million or the sum of the amounts in Section VI(A)(2), whichever is lower.

2. On page 49775, in column 2, revise Section VIII(B)(4) to read as follows:

(4) Need for Affordable Housing in the Community—3 Points.

The applicant must demonstrate the need for affordable housing in the community. The need for affordable housing in the community is measured by a lack of supply of private market housing that can be rented at the Section 8 fair market rent (FMR), as adjusted by HUD, and in the community. To make this calculation, use the most recently published FMR, as adjusted, for a 3-bedroom apartment and apartment listings in a newspaper of general circulation that serves the majority of the community (the jurisdiction covered by the FMR). In the apartment listings, track and tabulate the rents for 3-bedroom apartments for a period of 30 consecutive days during the application preparation period, counting each 3-bedroom apartment once for the period of days it appears in the listings (e.g., if the same apartment appears in the listings every day for a period of 7 days, you would count it one time). Calculate the average market rental costs, based on your tabulations, and compare them to the FMR, as adjusted, for a 3-bedroom apartment. In your application you will document information about your analysis. Points will be awarded in accordance with one of the following, based on your analysis:

(a) You will receive 3 Points if the average market rental costs are over 130 percent of FMR.

(b) You will receive 2 Points if the average market rental costs are over 120 percent of FMR.

(c) You will receive 1 Point if the average market rental costs are over 110 percent of FMR.

(d) You will receive 0 Points if the average market rental costs are 110 percent or less of FMR or if there is inadequate information to rate this factor.

3. On page 49776, in column 2, revise the last sentence of Section IX(D)(10) to read as follows:

(10) * * * Tax credits are generally reserved annually through State Housing Finance Agencies, a directory of which can be found at http://www.ncsha.org/ncsha/public/statehfadirectory/index.htm

4. On page 49776, in column 3, revise the first sentence of Section IX(D)(10)(a) to read as follows:

(a) If you propose to include LIHTC equity as a development resource for your first phase of development, your application must include a LIHTC reservation letter from your State or local Housing Finance Agency. * * *.

5. On page 49776, in column 3, revise Section IX(D)(10)(b)(ii) to read as follows:

(ii) The dollar amount expected from the sale of equity. If this information is not provided, HUD will count 80 percent of the total tax credit amount. The dollar amount expected from the sale of equity may be detailed in a letter from the investor, instead of in a letter from your State or local Housing Finance Agency. All other criteria in Section IX(D)(10)(b)(i)-(vii) must be included in a commitment letter from your State or local Housing Finance Agency.

6. On page 49777, in column 2, revise Section IX(G)(1)(c) to read as follows:

(c) You will receive 5 Points if the ratio is between 1:2.0 and 1:2.49.

7. On page 49777, in column 3, revise Section IX(G)(3)(a) to read as follows:

(a) You will receive 2 Points if the ratio of your documented anticipatory resources to the amount of HOPE VI funds requested for physical development activities (not including CSS or administration) is .1:1.0 or higher.

8. On page 49777, in column 3, revise Section IX(G)(3)(b) to read as follows:

(b) You will receive 0 Points if the ratio of your documented anticipatory resources to the amount of HOPE VI funds requested for physical development activities (not including CSS or administration) resources is less than .1:1.0.

9. On page 49777, in column 3, revise Section IX(G)(4)(b) to read as follows:

(b) You will receive 0 Points if the ratio of your documented collateral resources to the amount of HOPE VI funds requested for physical development activities (not including CSS or administration) is less than 1:1.0.

10. On page 49780, in column 3, revise Section XII(E)(3) to read as follows:

(3) You will receive 2 points if you meet only one of the factors described in Section (2) above.

Dated: October 15, 2002.
Michael Liu,
Assistant Secretary for Public and Indian Housing.

[FR Doc. 02-26892 Filed 10-22-02; 8:45 am]

BILLING CODE 4210-33-P